DEPARTMENT OF AGRICULTURE

Farm Service Agency

Notice of Funds Availability (NOFA) To Announce Funding for the 2008 Aquaculture Grant Program, Recovery Act

AGENCY: Farm Service Agency, USDA.

ACTION: Notice of proposal.

SUMMARY: The American Recovery and Reinvestment Act of 2009 (the Recovery Act) authorizes up to $50 million to carry out a 2008 Aquaculture Grant Program (the 2008 AGP). The 2008 AGP is a Commodity Credit Corporation (CCC) funded program administered by the Farm Service Agency (FSA). Through the 2008 AGP, FSA will provide grants to State governments to assist eligible aquaculture producers that suffered losses associated with high feed input costs during the 2008 calendar year. State grant amounts will be based on the amount of aquaculture feed used in each State during the 2007 calendar year. Also, for the information to be collected for the 2008 AGP, FSA is requesting comments from all interested individuals and organizations as required by the Paperwork Reduction Act of 1995.

DATES: We will consider comments on the information collection that we receive by August 3, 2009.

ADDRESSES: We invite you to submit comments on the information collection that is described in the Paperwork Reduction Act section. In your comment, include the date, volume, and page number of this issue of the Federal Register. You may submit comments by any of the following methods:

• Mail: Farm Service Agency, USDA, Attn: Dan McGlynn, Acting Director, Production, Emergencies and Compliance Division, STOP 0517, 1400 Independence Ave., SW., Washington, DC 20250.

• E-mail: Send comment to: dan.mcglynn@wdc.usda.gov.

• Fax: (202) 690-2130.

You may also send comments to the Desk Officer for Agriculture, Office of Information and Regulatory Affairs, Office of Management and Budget, Washington, DC 20503.

FOR FURTHER INFORMATION CONTACT: Dan McGlynn, Acting Director, (202) 720-3463; e-mail: dan.mcglynn@wdc.usda.gov.

SUPPLEMENTARY INFORMATION:

Purpose of Notice

This notice announces a proposal for the availability of Recovery Act (Pub. L. 111-5) grant funding to State governments that agree to implement the 2008 AGP to assist eligible aquaculture producers for their losses associated with high feed input costs during the 2008 calendar year.

Background

This notice is issued under Section 102(d) of the Recovery Act that authorizes up to $50 million to carry out the 2008 AGP. To provide assistance to eligible aquaculture producers, FSA is proposing to provide block grants to State governments that agree to provide assistance to eligible aquaculture producers for losses associated with high feed input costs during the 2008 calendar year.

Grant Funding Allocation

The Recovery Act requires that USDA allocate 2008 AGP funding to the States on a pro rata basis, based on the amount of aquaculture feed used in each State during the 2007 calendar year. FSA has by letter notified the States that it proposes to calculate the amount to allocate to each State based on the total aquaculture feed delivered in each State in the 2007 calendar year, as reported by the States to FSA for the 2008 AGP.

FSA has sent each State Department of Agriculture a letter that includes the instructions and specifies the information to provide to FSA before receiving any grant funding. The States that do not meet the requirements in this notice, the letter, and the grant agreement will not receive grant funding.

Grant Agreements Under the Proposal

Under the current proposal, grant funding to a State is contingent on the execution of a Grant Agreement (Agreement) between CCC and the State. Upon execution of an Agreement, the State would agree to:

(1) Implement the 2008 AGP according to program-specific policy and procedure provided in the Agreement;

(2) Submit a 2008 Aquaculture Grant Work Plan to FSA providing a summary of how the State will implement 2008 AGP to provide assistance to eligible aquaculture producers;

(3) Provide assistance to eligible aquaculture producers, not later than 60 days after the date on which the State receives grant funds;

(4) Facilitate the accountability and transparency objectives of the Recovery Act as provided in 2 CFR part 176, subparts A and D, specifically, the award terms would require;

(a) Recipients and sub-recipients (first-tier that are not individuals) to maintain current registrations in the Central Contractor Registration (CCR) database,

(b) Recipients to report quarterly on project or activity status, sub-grant and subcontract information, and

(c) Proper accounting and reporting of Recovery Act expenditures in single audits; and

(5) Submit to FSA a 2008 AGP Recovery Act Report, no later than 30 days after the States have provided assistance to eligible producers, including the:

(a) Manner in which the State provided assistance,

(b) Amount of assistance provided per producer per species of aquaculture, and

(c) Process by which the State determined the levels of assistance to eligible aquaculture producers.

Definitions Used in the Proposal

Under the current proposal, the following definitions would be applicable to the 2008 AGP:

Controlled environment. An environment in which everything that can practicably be controlled with structures, facilities, growing media (including but not limited to water or nutrients) by the producer, is in fact controlled by the producer, as determined by industry standards.

Farming operation. A business enterprise engaged in the production of agricultural products that is operated by an individual, entity, or joint operation.

Eligible Aquaculture Producers Under the Proposal

To be eligible for 2008 AGP assistance, an aquaculture producer would be required to meet all of the following criteria:

(1) During the 2008 calendar year:

(a) Raised an aquaculture species in a controlled environment,

(b) Maintained the aquaculture species as part of a farming operation, and

(c) Had a risk in the production of the aquaculture species;

(2) Is in operation in 2009, as of the date of their AGP application with the State;

(3) Produced an aquaculture species for which 2008 feed costs represented at least 25 percent of their total input costs for the aquaculture operation;

(4) Experienced at least a 25 percent price increase of 2008 feed costs above the previous 5-year average (2003-2007).

Proposed Application Procedure for Aquaculture Producers

The 2008 AGP application procedures for aquaculture producers would be determined by the applicable State.

Proposed Limitation on Payments and Other Benefits

The amount of assistance provided by the State to a farming operation would not be permitted to exceed the smaller of:

(1) The amount of loss suffered by the eligible aquaculture producer as a result of high feed input costs during the 2008 calendar year, as determined by the State; or

(2) $100,000, except for general partnerships and joint ventures in which case assistance could not exceed $100,000 times the number of members that constitute the general partnership or joint venture.

As a condition to receive the 2008 AGP benefits, an eligible aquaculture producer would be required to have records on file at an applicable Farm Service Agency County office that indicate:

(1) That the producer's average adjusted gross income does not exceed $2.5 million for the three preceding tax years (2005-2007), as determined under regulations in 7 CFR part 1400, and

(2) That the producer is in compliance with the conservation compliance eligibility provisions specified in 7 CFR part 12.

An eligible aquaculture producer that receives assistance under the 2008 AGP will not be eligible to receive assistance for any 2008 loss relating to the same aquaculture species under the supplemental agricultural disaster assistance program established under Section 531 of the Federal Crop Insurance Act and section 901 of the Trade Act of 1974 (these programs include the Emergency Assistance for Livestock, Honey Bees, and Farm-Raised Fish (ELAP), Livestock Forage Disaster Program (LFP), Livestock Indemnity Program (LIP), Supplemental Revenue Assistance Program (SURE), and Tree Assistance Program (TAP)).

Appeals

The appeal regulations at 7 CFR parts 11 and 780 apply to the 2008 AGP.

Comments

FSA requested comments on the proposal from the States by letter as they constitute the entire class of fund recipients under the program, although they will be distributing the funds to others as they determine appropriate in accordance with the guidelines established by FSA. Because the Recovery Act directed the Secretary to deliver the funds by June 17, 2009 (not later than 120 days after enactment of the Recovery Act), FSA is not requesting comments from the general public on the proposal set out in this notice other than on the information collection requirements specified below. FSA expects to make a final determination for the grants to the States by June 17, 2009. FSA plans to announce details of the final plan by press release.

Paperwork Reduction Act

In accordance with the Paperwork Reduction Act of 1995, FSA is requesting comments from all interested individuals and organizations on a new information collection for the 2008 AGP. FSA submitted the following information collection request to the Office of Management and Budget (OMB) under the emergency procedure in accordance with the Paperwork Reduction Act of 1995; the emergency approval expires on October 31, 2009. FSA plans to request a 3-year extension of the information collection approval from OMB. The 2008 AGP will provide assistance to eligible aquaculture producers for losses associated with high feed input costs during the 2008 calendar year in accordance with the Recovery Act.

Title: 2008 Aquaculture Grant Program.

OMB Control Number: 0560-0262.

Type of Request: New.

Abstract: This information collection is needed to comply with Section 102(d) of the Recovery Act that authorizes $50 million for the 2008 AGP. FSA will, under the proposal, provide block grants to State Governments that agree to provide assistance to eligible aquaculture producers for losses associated with high feed input costs during the 2008 calendar year. The collected information is needed to determine State grant amounts, to ensure equitable treatment of aquaculture producers, and to comply with the transparency, accountability, and reporting requirements of the American Recovery and Reinvestment Act of 2009.

The Recovery Act requires that the grant funding be allocated to the States, on a pro rata basis, based on the amount of aquaculture feed used in each State during the 2007 calendar year. Therefore, the collection of 2007 feed delivery data from the participating States is necessary. In addition, grant funding to a State under the proposal is contingent upon execution of a Grant Agreement that requires the States to submit a 2008 AGP Work Plan and several standard grant forms. Also, the Recovery Act requires the States to complete and submit a 2008 AGP Recovery Act Report.

Estimate of Burden: Public reporting burden for this information collection is estimated to average 3.25 hours per response.

Respondents: States, Local or Tribal Governments.

Estimated Number of Respondents: 30.

Estimated Number of Responses per Respondent: 1.

Estimated Total Annual Burden on Respondents: 97.5.

We are requesting comments on all aspects of the information collection, including the following, to help us to:

(1) Evaluate whether the collection of information is necessary for the proper performance of the functions of the agency, including whether the information will have practical utility;

(2) Evaluate the accuracy of the agency's estimate of the burden, including the validity of the methodology and assumptions used;

(3) Enhance the quality, utility and clarity of the information to be collected; and

(4) Minimize the burden of the collection of information on those who are to respond, including the use of appropriate automated, electronic, mechanical, or other technological collection techniques or other forms of information technology.

All responses to this notice will be summarized and included in the request for extension of OMB approval. All comments will also become a matter of public record.

Signed in Washington, DC, on May 26, 2009.
Douglas J. Caruso,
Administrator, Farm Service Agency.

[FR Doc. E9-12816 Filed 6-1-09; 8:45 am]

BILLING CODE 3410-05-P